DEPARTMENT OF JUSTICE

Notice of Lodging of Proposed Consent Decree Under the Clean Air Act

On February 6, 2020, the Department of Justice lodged a proposed Consent Decree with the United States District Court for the District of Guam in the lawsuit entitled United States v. Guam Power Authority and Marianas Energy Company, L.L.C., Civil Action No. 1:20-cv-00007.

The United States filed this lawsuit under the Clean Air Act. The United States' complaint seeks injunctive relief and civil penalties for violations of the emission limits and the performance testing requirements in the National Emission Standards for Hazardous Air Pollutants regulations that govern the operation of stationary reciprocating internal combustion engines and electric utility steam generating units at Guam Power Authority's (“GPA”) Cabras and Piti power plants in Piti, Guam. The Consent Decree requires GPA to perform injunctive relief and pay a $400,000 civil penalty.

The publication of this notice opens a period for public comment on the Consent Decree. Comments should be addressed to the Assistant Attorney General, Environment and Natural Resources Division, and should refer to United States v. Guam Power Authority and Marianas Energy Company, L.L.C., D.J. Ref. No. 90-5-2-1-11000. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $9.00 (25 cents per page reproduction cost) payable to the United States Treasury.

Lori Jonas,
Assistant Section Chief, Environmental Enforcement Section, Environment and Natural Resources Division.

[FR Doc. 2020-02766 Filed 2-11-20; 8:45 am]

BILLING CODE 4410-15-P